DEPARTMENT OF COMMERCE

International Trade Administration

[A-583-841]

Postponement of Preliminary Determination of Antidumping Duty Investigation: Polyvinyl Alcohol From Taiwan

AGENCY: Import Administration, International Trade Administration, Department of Commerce.

DATES: Effective Date: July 1, 2010.

FOR FURTHER INFORMATION CONTACT: Thomas Schauer at (202) 482-5760, AD/CVD Operations, Office 5, Import Administration, International Trade Administration, U.S. Department of Commerce, 14th Street and Constitution Avenue, NW., Washington, DC 20230.

SUPPLEMENTARY INFORMATION:

Background

On September 27, 2004, the Department of Commerce (the Department) initiated the antidumping duty investigation on polyvinyl alcohol from Taiwan. See Initiation of Anti-Dumping Duty Investigation: Polyvinyl Alcohol From Taiwan, 69 FR 59204 (October 4, 2004). On October 22, 2004, the International Trade Commission (ITC) made a preliminary negative determination regarding whether there was a reasonable indication of injury due to imports of the subject merchandise. As a result, the Department did not continue the investigation.

The petitioner appealed the negative ITC preliminary determination to the Court of International Trade (CIT). On remand from the CIT, the ITC reversed its preliminary injury determination and found instead that there was a reasonable indication of injury due to imports of the subject merchandise. The CIT affirmed the ITC's remand determination. DuPont, an importer of the subject merchandise, appealed the CIT's decision to the Court of Appeals for the Federal Circuit (CAFC). On December 23, 2009, the CAFC affirmed the ITC's decision. See Polyvinyl Alcohol From Taiwan; Determination, 75 FR 15726 (March 30, 2010). The ITC notified the Department of its affirmative determination in the preliminary phase of an antidumping duty investigation concerning imports of polyvinyl alcohol from Taiwan on March 25, 2010. See letter from the ITC dated March 25, 2010. On April 20, 2010, the Department issued a decision memorandum which stated that the deadline for the preliminary determination is July 18, 2010. See memorandum to Laurie Parkhill dated April 20, 2010, at 10.

Postponement of Preliminary Determination

On June 17, 2010, Sekisui Specialty Chemicals America, LLC (the petitioner), requested a 50-day postponement of the preliminary determination in order to allow the Department additional time to resolve a number of issues in the investigation which the petitioner anticipates will require supplemental questionnaires.

For reasons identified by the petitioner and because there are no compelling reasons to deny the request, the Department is postponing the deadline for the preliminary determination in accordance with section 733(c)(1)(A) of the Tariff Act of 1930, as amended (the Act), and 19 CFR 351.205(b)(2) and (e), by 50 days to September 6, 2010. The deadline for the final determination will continue to be 75 days after the date of the preliminary determination, unless extended.

This notice is issued and published pursuant to section 733(c)(2) of the Act and 19 CFR 351.205(f)(1).

Dated: June 25, 2010.
Paul Piquado,
Acting Deputy Assistant Secretary for Import Administration.

[FR Doc. 2010-16087 Filed 6-30-10; 8:45 am]

BILLING CODE 3510-DS-P